DEPARTMENT OF HEALTH AND HUMAN SERVICES

Food and Drug Administration

Request for Nominations for Voting Members on a Public Advisory Committee; Risk Communication Advisory Committee

AGENCY: Food and Drug Administration, HHS.

ACTION: Notice.

SUMMARY: The Food and Drug Administration (FDA) is requesting nominations for members to serve on the Risk Communication Advisory Committee in the Office of Planning, Office of the Commissioner. Elsewhere in this issue of the Federal Register, FDA is publishing a document announcing the establishment of this committee.

FDA has special interest in ensuring that women, minority groups, and individuals with disabilities are adequately represented on advisory committees and, therefore, encourages nominations of qualified candidates from these groups.

DATES: Nominations received on or before July 20, 2007 will be given first consideration for membership on the Risk Communication Advisory Committee. Nominations received after July 20, 2007 will be considered for nomination to the Risk Communication Advisory Committee should nominees still be needed.

ADDRESSES: All nominations for membership should be sent to the contact person listed in the FOR FURTHER INFORMATION CONTACT section of this document.

FOR FURTHER INFORMATION CONTACT: Regarding all nomination questions for membership, the primary contact is Lee Zwanziger, Office of Planning, Office of the Commissioner (HFP-1), Food and Drug Administration, 5600 Fishers Lane, Rockville, MD 20857, 301-827-2895, FAX: 301-827-5260, e-mail: rcac@fda.hhs.gov.

SUPPLEMENTARY INFORMATION: FDA is requesting nominations for voting members on the Risk Communication Advisory Committee.

I. Function of the Risk Communication Advisory Committee

The committee advises the Commissioner of Food and Drugs on strategies and programs designed to communicate with the public about both the risks and benefits of FDA-regulated products so as to facilitate optimal use of these products. The committee also reviews and evaluates research relevant to such communication to the public by both FDA and other entities. It also facilitates interactively sharing risk and benefit information with the public to enable people to make informed independent judgments about use of FDA-regulated products.

II. Criteria for Voting Members

A. Experts

Persons nominated for membership must have scientific expertise or extensive experience in one or more of the following fields: Risk communication; risk perception; social marketing; communications; cognitive, social, health, behavioral, or other relevant specialties of psychology or sociology; decision analysis; qualitative or quantitative research methodology; health literacy; cultural competency; journalism; and/or biomedical ethics.

B. Public Members

Persons nominated for membership on the committee to provide a perspective from real-world experience on the communication needs of the various groups who use FDA-regulated products must have the following skills: (1) Ability to communicate the interests and perspectives of consumers, patients, patient-caregivers, or health professionals; (2) ability to discuss benefits and risks; and (3) ability to understand the results of research studies. In addition, preference will be given to nominees who have one or more of the following qualifications: (1) Ability to analyze technical data; (2) understanding of research design; (3) ability to disseminate information about the advisory committee experience to the community; and (4) ties to a consumer, patient, and/or community-based organization. As a member of the Risk Communication Advisory Committee, these individuals will serve in their individual capacities. However, we expect that they can also serve as conduits between FDA and the general public. Nominated individuals may include patients and patients' family members, health professionals, communicators in health, medicine, and science, and persons affiliated with consumer, specific disease, or patient safety advocacy groups.

III. Nomination Procedures

Any interested person may nominate one or more qualified persons for membership on the advisory committee. Self-nominations are also accepted. Nominations must include a current resume or curriculum vitae of each nominee, including current business address, telephone number, and e-mail address if available. Nominations must also acknowledge that the nominee is aware of the nomination, is willing to serve as a member, and appears to have no conflict of interest that would preclude membership. FDA will ask the potential candidates to provide detailed information concerning matters related to financial holdings, employment, and research grants and/or contracts.

This notice is issued under the Federal Advisory Committee Act (5 U.S.C. app. 2) and 21 CFR part 14, relating to advisory committees.

Dated: May 28, 2007.
Randall W. Lutter,
Associate Commissioner for Policy and Planning.

[FR Doc. E7-10737 Filed 6-4-07; 8:45 am]

BILLING CODE 4160-01-S